DEPARTMENT OF LABOR

Office of the Secretary, DOL

Agency Information Collection Activities; Submission for OMB Review; Comment Request; Registered Apprenticeship College Consortium

ACTION: Notice.

SUMMARY: The Department of Labor (DOL) will submit the Employment and Training Administration (ETA) sponsored information collection request (ICR) revision titled, “Registered Apprenticeship College Consortium,” to the Office of Management and Budget (OMB) on August 31, 2016, for review and approval for use in accordance with the Paperwork Reduction Act (PRA) of 1995 (44 U.S.C. 3501 et seq.). Public comments on the ICR are invited.

DATES: The OMB will consider all written comments that agency receives on or before September 30, 2016.

ADDRESSES: A copy of this ICR with applicable supporting documentation; including a description of the likely respondents, proposed frequency of response, and estimated total burden may be obtained free of charge from the RegInfo.gov Web site at http://www.reginfo.gov/public/do/PRAViewICR?ref_nbr=201607-1205-003 (this link will only become active on September 1, 2016) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW., Washington, DC 20210; or by email: DOL_PRA_PUBLIC@dol.gov.

FOR FURTHER INFORMATION: Contact Michel Smyth by telephone at 202-693-4129, TTY 202-693-8064, (these are not toll-free numbers) or sending an email to DOL_PRA_PUBLIC@dol.gov.

AUTHORITY: 44 U.S.C. 3507(a)(1)(D).

SUPPLEMENTARY INFORMATION: This ICR seeks approval under the PRA for revisions to the Registered Apprenticeship College Consortium (RACC) information collection that facilitates awarding a registered apprenticeship completion certificate towards college credit. RACC post-secondary educational institution members agree to accept apprentice graduates from member registered apprenticeship sponsors with the approximate amount of credit towards college that has been designated by a third party evaluator. The information collection includes three application forms to join the consortium; there are three types of membership and separate applications for each type of member. This information collection has been classified as a revision, because the ETA has decided not to pursue completion of an on-line registration system. National Apprenticeship Act section 1 authorizes this information collection. See 29 U.S.C. 50.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0521. The current approval is scheduled to expire on August 31, 2016; however, the DOL notes that existing information collection requirements submitted to the OMB receive a month-to-month extension while they undergo review. New requirements would only take effect upon OMB approval. For additional substantive information about this ICR, see the related notice published in the Federal Register on March 17, 2016 (81 FR 14486).

Interested parties are encouraged to send comments to the OMB, Office of Information and Regulatory Affairs at the address shown in the ADDRESSES section by September 30, 2016. In order to help ensure appropriate consideration, comments should mention OMB Control Number 1205-0512. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Registered Apprenticeship College Consortium.

OMB Control Number: 1205-0512.

Affected Public: Federal Government; State, Local, and Tribal Governments; and Private Sector—businesses or other for-profits and not-for-profit institutions.

Total Estimated Number of Respondents: 185.

Total Estimated Number of Responses: 185.

Total Estimated Annual Time Burden: 32 hours.

Total Estimated Annual Other Costs Burden: $0.

Dated: August 22, 2016.
Michel Smyth,
Departmental Clearance Officer.

[FR Doc. 2016-20510 Filed 8-25-16; 8:45 am]

BILLING CODE 4510-FR-P